DEPARTMENT OF DEFENSE

Office of the Secretary

32 CFR PART 85

[Docket ID: DOD-2019-OS-0111]

RIN 0790-AK25

Health Promotion

AGENCY: Department of Defense.

ACTION: Final rule.

SUMMARY: This final rule removes an unnecessary and outdated Department of Defense (DoD) rule relating to a health promotion program. The majority of the content of this part includes internal DoD policy, which does not require rulemaking. Additionally, since this rule was codified, the General Services Administration (GSA) issued a rule that superseded the public-facing content of this part. Therefore, this part can be removed from the CFR.

DATES: This rule is effective on February 28, 2020.

FOR FURTHER INFORMATION CONTACT: Donald Shell, MD, MA, Director, Disease Prevention, Disease Management and Population Health, OASD (HA) Health Services Policy and Oversight, Email: Donald.shell4civ@mail.mil, Phone: (703) 681-1705.

SUPPLEMENTARY INFORMATION:

This final rule removes an unnecessary and outdated Department of Defense (DoD) regulation on a health promotion program, which was last updated August 30, 1988 (53 FR 33123). The DoD program continues to operate under the existing internal policies, the General Services Administration (GSA) has since issued a rule that superseded the public-facing content of this part.

Internal policies are available in DoD Instruction (DoDI) 1010.10, “Health Promotion and Disease Prevention” (available at: https://www.esd.whs.mil/Portals/54/Documents/DD/issuances/dodi/101010p.PDF?ver=2018-01-12-113645-193). It is a general practice and goal of DoD to provide healthy environments for Service members, medical beneficiaries, civilian DoD employees, and visitors on military installations.

The rule also sets forth an outdated smoking policy on DoD property. However, since codification of this part, GSA issued a rule at title 41 CFR part 102-74, “Facility Management” (70 FR 67798, Nov. 8, 2005), which regulates smoking policies for the executive branch of the government and superseded this part.

Part 85 should now be removed as its content is either internal or obsolete. This rule is not significant under Executive Order (E.O.) 12866, “Regulatory Planning and Review,” therefore, the requirements of E.O. 13771, “Reducing Regulation and Controlling Regulatory Costs” do not apply.

List of Subjects in 32 CFR Part 85

Government employees, Health.

PART 85—[REMOVED]

Accordingly, by the authority of 5 U.S.C. 301, 32 CFR part 85 is removed.

Dated: February 24, 2020.
Morgan E. Park,
Alternate OSD Federal Register Liaison Officer, Department of Defense.

[FR Doc. 2020-04045 Filed 2-27-20; 8:45 am]

BILLING CODE 5001-06-P